NUCLEAR REGULATORY COMMISSION

10 CFR Part 110

RIN 3150-AH89

Revision of NRC Form 7, Application for NRC Export/Import License, Amendment, or Renewal

AGENCY: Nuclear Regulatory Commission.

ACTION: Direct final rule.

SUMMARY: The Nuclear Regulatory Commission (NRC) is amending its regulations that govern the export and import of nuclear material and equipment concerning the use of NRC Form 7, “Application for NRC Export/Import License, Amendment, or Renewal.” Recently, the Commission revised NRC Form 7 to consolidate all license requests (i.e., applications for export, import, combined export/import, amendments and renewals) in one application form. Previously, NRC Form 7 was used only for applications for export of nuclear material and equipment. Import license applications, production or utilization facility export applications, and license amendment and renewal applications were filed by letter. As a result of the revision, these requests previously made by letter, now will be made using NRC Form 7. The purpose of this change is to amend the regulations that govern export and import of nuclear material and equipment to reflect that all license requests are to be made using NRC Form 7, as revised.

DATES: The final rule will become effective June 27, 2006, unless a significant adverse comment on the direct final rule is received by May 15, 2006. If the rule is withdrawn as a result of such a comment, timely notice of the withdrawal will be published in the Federal Register. Comments received after May 15, 2006 will be considered if it is practical to do so, but the NRC is able to ensure only that comments received on or before this date will be considered.

ADDRESSES: You may submit comments by any one of the following methods. Please include the following number RIN 3150-AH89 in the subject line of your comments. Comments on rulemakings submitted in writing or in electronic form will be made available for public inspection. Because your comments will not be edited to remove any identifying or contact information, the NRC cautions you against including personal information such as social security numbers and birth dates in your submissions.

Mail comments to: Secretary, U.S. Nuclear Regulatory Commission, Washington, DC 20555-0001, ATTN: Rulemakings and Adjudications Staff.

E-mail comments to: SECY@nrc.gov. If you do not receive a reply e-mail confirming that we have received your comments, contact us directly at (301) 415-1966. You may also submit comments via the NRC's rulemaking Web site at http://ruleforum.llnl.gov. Address questions about our rulemaking Web site to Carol Gallagher (301) 415-5905; e-mail CAG@nrc.gov. Comments also can be submitted via the Federal eRulemaking Portal http://regulations.gov.

Hand deliver comments to: 11555 Rockville Pike, Rockville, Maryland 20852, between 7:30 a.m. and 4:15 p.m. on Federal workdays.

Fax comments to: Secretary, U.S. Nuclear Regulatory Commission at (301) 415-1101.

Publicly available documents related to this rulemaking may be viewed electronically on the public computers located at the NRC's Public Document Room (PDR), Public File Area O1F21, One White Flint North, 11555 Rockville Pike, Rockville, Maryland. Selected documents, including comments, may be viewed and downloaded electronically via the NRC rulemaking Web site at http://ruleforum.llnl.gov.

Publicly available documents created or received at the NRC after November 1, 1999, are available electronically at the NRC's Electronic Reading Room at http://www.nrc.gov/NRC/reading-rm/adams.html. From this site, the public can gain entry into the NRC's Agencywide Document Access and Management System (ADAMS), which provides text and image files of NRC's public documents. If you do not have access to ADAMS or if there are problems in accessing the documents located in ADAMS, contact the NRC Public Document Room (PDR) Reference staff at 1-800-397-4209, 301-415-4737 or by e-mail to PDR@nrc.gov.

FOR FURTHER INFORMATION CONTACT: Brooke G. Smith, International Policy Analyst, Office of International Programs, U.S. Nuclear Regulatory Commission, Washington, DC 20555-0001, telephone (301) 415-2347, e-mail bgs@nrc.gov.

SUPPLEMENTARY INFORMATION:

I. The Direct Final Rule Process

This direct final rule amends 10 CFR part 110 to reflect revisions made to NRC Form 7 regarding the method for filing import and export license requests. All licensing requests, i.e., exports, imports, combined export/import, amendment, and renewal applications will be made using revised NRC Form 7. Import license applications, production or utilization facility export license applications, and import/export license amendment and renewal applications will no longer be filed by letter. This direct final rule codifies the revisions to NRC Form 7 in 10 CFR part 110.

Because the NRC believes that this action is not controversial, the NRC is using the direct final rule process for this rule. The direct final rule will become effective on June 27, 2006. However, if the NRC receives a significant adverse comment on this direct final rule by May 15, 2006, the NRC will publish a document that withdraws this action. In that event, the comments received in response to these amendments would then be considered as comments on the companion proposed rule published elsewhere in this Federal Register. The comments will be addressed in a later final rule based on that proposed rule. Unless the modifications to the proposed rule are significant enough to require that it be republished as a proposed rule, the NRC will not initiate a second comment period on this action.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC staff to reevaluate (or reconsider) its position or conduct additional analysis;

(b) The comment raises an issue serious enough to warrant a substantive response to clarify or complete the record; or

(c) The comment raises a relevant issue that was not previously addressed or considered by the NRC staff.

(2) The comment proposes a change or an addition to the rule, and it is apparent that the rule would be ineffective or unacceptable without incorporation of the change or addition.

(3) The comment causes the staff to make a change (other than editorial) to the rule.

II. Background

The NRC is amending its regulations under 10 CFR part 110 concerning the use of NRC Form 7. NRC Form 7, “Application for Export of Nuclear Material and Equipment” is being revised as NRC Form 7, “Application for NRC Export/Import License, Amendment or Renewal.” All licensing requests (i.e., exports, imports, combined export/import, amendment, and renewal applications) will be made using revised NRC Form 7.

Previously, NRC Form 7 was used only for applications for export of nuclear material and equipment. Import license applications and production or utilization facility export applications were filed by letter under 10 CFR 110.31(c) (OMB Clearance Number 3150-0036). Section 110.31(c) is amended to require import license applications and production and utilization facility export applications to be filed using revised NRC Form 7. Previously, applications for export/import license amendments and license renewals were filed by letter under 10 CFR 110.51(a) (OMB Clearance Number 3150-0036). Section 110.51(a) is amended to require applications for license amendments and license renewals to be filed using NRC revised Form 7.

This direct final rule, by revising the method of filing license applications for import licenses, production and utilization export licenses, and import/export license amendment and renewal requests, will eliminate the burden under the Paperwork Reduction Act to those applicants and licensees previously filing applications under 10 CFR part 110 (OMB Clearance No. 3150-0036) and transfers that burden to the NRC Form 7 (OMB Clearance No. 3150-0027). Sections 110.7(b) and (c) are amended by this direct final rule to reflect this change.

Below is a summary of the type of information required in NRC Form 7, as revised. NRC Form 7 is divided into five parts. Part A is for the NRC's internal use. Part B must be completed by all applicants and requires that the applicant provide its name, contact, physical address, phone number, type of licensing action, first and last shipment date, and proposed expiration date. Part C must be completed for export or combined export/import licenses, amendments, or renewal requests. The type of information required in Part C includes names and addresses of suppliers and other parties to the export, names and addresses of intermediate and ultimate locations, type of licensing action, functions to be performed, physical addresses where correspondence should be sent, and where exports could be inspected. Part C also requires a description of key characteristics including physical and chemical forms of the radioactive materials, sealed sources, nuclear facilities, equipment, or components. The maximum total volume, element weight, or total activity also must be provided. Part D must be completed for import or combined export/import licenses, amendments, or renewal requests. It requires information similar to that required in Part C; however, Part D also requires that the applicant provide the NRC or Agreement State Materials License number(s) including the expiration date(s) for each U.S. consignee. Part E must be completed by all applicants. In Part E, the applicant must verify whether domestic recipients' authorizations required for Appendix P materials are included with the application. The applicant also must provide a signature certification that all information in the application is prepared in conformity with 10 CFR part 110, and that all information provided is correct to the best of the applicant's knowledge.

The NRC has determined that this rule will pose no unreasonable risk to the public health and safety or the common defense and security.

Plain Language

The Presidential memorandum “Plain Language in Government Writing” published June 10, 1998 (63 FR 31883) directed that the Government's documents be in clear and accessible language. The NRC requests comments on the direct final rule specifically with respect to the clarity and effectiveness of the language used. Comments should be sent to the NRC as explained in the ADDRESSES caption of this notice.

Voluntary Consensus Standards

The National Technology Transfer and Advancement Act of 1995 (Pub. L. 104-113) requires that Federal agencies use technical standards that are developed or adopted by voluntary consensus standards bodies unless using such a standard is inconsistent with applicable law or otherwise impractical. This direct final rule does not constitute the establishment of a standard for which the use of a voluntary consensus standard would be applicable. The NRC is amending 10 CFR part 110 to require all applications for export, import, combined export/import, amendments and renewals to be submitted using NRC Form 7.

Environmental Impact: Categorical Exclusion

The NRC has determined that this direct final rule is the type of action described in categorical exclusion 10 CFR 51.22(c)(1). Therefore, neither an environmental impact statement nor an environmental assessment has been prepared for this direct final rule.

Paperwork Reduction Act Statement

This direct final rule amends information collection requirements that are subject to the Paperwork Reduction Act of 1995 (44 U.S.C. 3501 et seq.). These requirements were approved by the Office of Management and Budget (OMB), clearance numbers 3150-0027 and 3150-0036. The rule transfers existing information collection requirements to process license requests that previously were filed by letter from 10 CFR part 110 (OMB Clearance No. 3150-0036) to NRC Form 7 (OMB Clearance No. 3150-0027). There is no change in burden to each respondent of an average 2.4 hours to complete the application because respondents only complete applicable sections of NRC Form 7, depending on the nature of the license request. Send comments on any aspect of these information collections, including suggestions for further reducing the burden, to the Records and FOIA/Privacy Services Branch (T-5 F52), U.S. Nuclear Regulatory Commission, Washington, DC 20555-0001, or by Internet electronic mail at BJS1@NRC.GOV; and to the Desk Officer, Office of Information and Regulatory Affairs, NEOB-10202, (3150-0027 and 3150-0036), Office of Management and Budget, Washington, DC 20503.

Public Protection Notification

The NRC may not conduct or sponsor, and a person is not required to respond to, a request for information or an information collection requirement unless the requesting document displays a currently valid OMB control number.

Regulatory Analysis

A regulatory analysis has not been prepared for this direct final rule because this rule is considered a minor, nonsubstantive amendment; it has no economic impact on NRC licensees or the public. The NRC has sole control of 10 CFR part 110 and NRC Form 7. There is no alternative to amending the regulations at 10 CFR part 110 to reflect changing circumstances.

Regulatory Flexibility Certification

As required by the Regulatory Flexibility Act of 1980 (5 U.S.C. 605(b)), the Commission certifies that this direct final rule does not have a significant economic impact on a substantial number of small entities. This minor, non-substantive amendment merely changes the method of filing certain license applications. As such, it has no economic impact on NRC licensees or the public.

Backfit Analysis

The NRC has determined that a backfit analysis is not required for this direct final rule because these amendments do not include any provisions that would impose backfits as defined in 10 CFR chapter I.

Small Business Regulatory Enforcement Fairness Act

Under the Small Business Regulatory Enforcement Fairness Act of 1996, the NRC has determined that this action is not a major rule and has verified this determination with the Office of Information and Regulatory Affairs of OMB.

List of Subjects in 10 CFR Part 110

Administrative practice and procedure, Classified information, Criminal penalties, Export, Import, Intergovernmental relations, Nuclear materials, Nuclear power plants and reactors, Reporting and recordkeeping requirements, Scientific equipment.

For the reasons set out in the preamble and under the authority of the Atomic Energy Act of 1954, as amended; the Energy Reorganization Act of 1974, as amended; and 5 U.S.C. 552 and 553; the NRC is adopting the following amendments to 10 CFR part 110.

PART 110—EXPORT AND IMPORT OF NUCLEAR EQUIPMENT AND MATERIAL

1. The authority citation for part 110 is revised to read as follows:

Authority: Secs. 51, 53, 54, 57, 63, 64, 65, 81, 82, 103, 104, 109, 111, 126, 127, 128, 129, 134, 161, 170H., 181, 182, 187, 189, 68 Stat. 929, 930, 931, 932, 933, 936, 937, 948, 953, 954, 955, 956, as amended (42 U.S.C. 2071, 2073, 2074, 2077, 2092-2095, 2111, 2112, 2133, 2134, 2139, 2139a, 2141, 2154-2158, 2160d., 2201, 2210h., 2231-2233, 2237, 2239); sec. 201, 88 Stat. 1242, as amended (42 U.S.C. 5841; sec. 5, Pub. L. 101-575, 104 Stat. 2835 (42 U.S.C. 2243); sec. 1704, 112 Stat. 2750 (44 U.S.C. 3504 note).

Sections 110.1(b)(2) and 110.1(b)(3) also issued under Pub. L. 96-92, 93 Stat. 710 (22 U.S.C. 2403). Section 110.11 also issued under sec. 122, 68 Stat. 939 (42 U.S.C. 2152) and secs. 54c and 57d, 88 Stat. 473, 475 (42 U.S.C. 2074). Section 110.27 also issued under sec. 309(a), Pub. L. 99-440. Section 110.50(b)(3) also issued under sec. 123, 92 Stat. 142 (42 U.S.C. 2153). Section 110.51 also issued under sec. 184, 68 Stat. 954, as amended (42 U.S.C. 2234). Section 110.52 also issued under sec. 186, 68 Stat. 955 (42 U.S.C. 2236). Sections 110.80-110.113 also issued under 5 U.S.C. 552, 554. Sections 110.30-110.135 also issued under 5 U.S.C. 553. Sections 110.2 and 110.42 (a)(9) also issued under sec. 903, Pub. L. 102-496 (42 U.S.C. 2151 et seq.).

2. In § 110.7, paragraphs (b) and (c)(1) are revised to read as follows:

§ 110.7 Information collection requirements: OMB approval.

* * * * *

(b) The approved information collection requirements contained in this part appear in §§ 110.7a, 110.23, 110.26, 110.27, 110.32, 110.50, 110.52, and 110.53.

(c) * * *

(1) In §§ 110.19, 110.20, 110.21, 110.22, 110.23, 110.31, 110.32, and 110.51, NRC Form 7 is approved under control number 3150-0027.

* * * * *

3. In § 110.31, paragraph (c) is revised to read as follows:

§ 110.31 Application for a specific license.

* * * * *

(c) Applications for an export, import, combined export/import, amendment or renewal licenses under 10 CFR Part 110 shall be filed on NRC Form 7.

* * * * *

4. In § 110.51, paragraph (a) is revised to read as follows:

§ 110.51 Amendment and renewal of licenses.

(a) A licensee shall submit an application to renew a license or to amend a license on a completed NRC Form 7.

* * * * *

Dated at Rockville, Maryland, this 7th day of March, 2006.
For the Nuclear Regulatory Commission.
Luis A. Reyes,
Executive Director for Operations.

[FR Doc. 06-3551 Filed 4-12-06; 8:45 am]

BILLING CODE 7590-01-P